DEPARTMENT OF AGRICULTURE

National Agricultural Library

Notice of Intent To Seek Approval To Collect Information

AGENCY: National Agricultural Library, Agricultural Research Service, USDA.

ACTION: Notice and Request for Comments.

SUMMARY: In accordance with the Paperwork Reduction Act of 1995 (Pub. L. 104-13) and Office of Management and Budget (OMB) regulations at 5 CFR part 1320, this notice announces the National Agricultural Library's (NAL) intent to request an extension of currently approved information collection form related to the Animal Welfare Information Center's (AWIC) workshop, Meeting the Information Requirements of the Animal Welfare Act. This workshop registration form requests the following information from participants: Contact information, affiliation, and database searching experience. Participants include principal investigators, members of Institutional Animal Care and Use Committees, animal care technicians, facility managers, veterinarians, and administrators of animal use programs.

DATES: Comments on this notice much be received by May 26, 2015 to be assured of consideration.

ADDRESSES: Address all comments concerning this notice to Sandra Ball, Information Technology Specialist, USDA, ARS, NAL Animal Welfare Information Center, 10301 Baltimore Avenue, Room #118G, Beltsville, Maryland 20705-2351. Submit electronic comments to: sandra.ball@ars.usda.gov.

FOR FURTHER INFORMATION CONTACT: Sandra Ball, Information Technology Specialist. Phone: 301 504 6212 or Fax: 301 504 5181.

SUPPLEMENTARY INFORMATION:

Title: Animal Welfare Act Workshop Registration.

OMB Number: 0518-033.

Expiration Date:

Type of Request: To extend currently approved data collection form.

Abstract: This Web-based form collects information to register respondents in the workshop, Meeting the Information Requirements of the Animal Welfare Act. Information collected includes the following: Preference of workshop date, name, title/position, organization name, mailing address, phone number, and email address. Five questions are asked regarding: Database searching experience, membership on an Institutional Animal Care and Use Committee, position as principal investigator, and goals for attending the workshop.

Estimate of Burden: Public reporting burden for this collection of information is estimated to average 5 minutes per response.

Respondents: Principal investigators, members of Institutional Animal Care and Use Committees, animal care personnel, veterinarians, information providers, and administrators of animal use programs.

Estimated Number of Respondents: 200 per year.

Estimated Total Annual Burden on Respondents: 16.6 hours.

Comments are invited on (a) whether the proposed collection of information is necessary for the proper performance of the functions of the Agency, including whether the information will have practical utility; (b) the accuracy of the Agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: March 11, 2015.
Simon Y. Liu,
Associate Administrator, Agriculture Research Service.

[FR Doc. 2015-06608 Filed 3-23-15; 8:45 am]

BILLING CODE 3410-03-P